DEPARTMENT OF THE INTERIOR

Bureau of Land Management [LLCO956000 L14200000.BJ0000]

Notice of Filing of Plats

AGENCY: Bureau of Land Management, Interior.

ACTION: Notice of Filing of Plats; Colorado.

SUMMARY: The Bureau of Land Management (BLM) Colorado State Office is publishing this notice to inform the public of the intent to officially file the survey plats listed below and afford all affected parties a proper period of time to protest this action prior to the plat filing. During this time, the plats will be available for viewing at http://www.glorecords.blm.gov.

DATES: Unless there are protests of this action, the filing of the plats described in this notice will happen on August 31, 2012.

ADDRESSES: BLM Colorado State Office, Cadastral Survey, 2850 Youngfield Street, Lakewood, Colorado 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The plat, in 6 sheets, and field notes of the dependent resurvey in Township 2 South, Range 73 West, Sixth Principal Meridian, Colorado, were accepted on June 13, 2012.

The plat, in 2 sheets, and field notes of the dependent resurvey in Township 2 South, Range 73 West, Sixth Principal Meridian, Colorado, were accepted on June 25, 2012.

The plat, in 4 sheets, and field notes of the dependent resurvey in Township 3 South, Range 73 West, Sixth Principal Meridian, Colorado, were accepted on June 29, 2012.

The plat and field notes of the dependent resurvey and survey in Township 48 North, Range 4 West, New Mexico Principal Meridian, Colorado, were accepted on July 10, 2012.

Randy Bloom,
Chief Cadastral Surveyor for Colorado.

[FR Doc. 2012-18721 Filed 7-31-12; 8:45 am]

BILLING CODE 4310-JB-P